DEPARTMENT OF COMMERCE

National Oceanic and Atmospheric Administration

[RTID 0648-XA451]

Council Coordination Committee Meeting

AGENCY: National Marine Fisheries Service (NMFS), National Oceanic and Atmospheric Administration (NOAA), Commerce.

ACTION: Notice of a public meeting; information regarding the agenda.

SUMMARY: The National Marine Fisheries Service, Office of Sustainable Fisheries will host a virtual meeting of the Council Coordination Committee (CCC), consisting of the Regional Fishery Management Council chairs, vice chairs, and executive directors on September 23 to September 24, 2020. The intent of this meeting is to discuss issues of relevance to the Councils and NMFS, including issues related to the implementation of the Magnuson-Stevens Fishery Conservation and Management Reauthorization Act. All sessions are open to the public and time will be set aside for public comments at the end of each session.

DATES: The meeting will begin at 1:30 p.m. Eastern on Wednesday, September 23, 2020, recess at 5:30 p.m. Eastern, reconvene at 1:30 p.m. Eastern on Thursday, September 24, 2020, and adjourn by 5:30 p.m. Eastern.

ADDRESSES: The meeting will be held online via WebEx. Attendees can find information on how to join at https://www.fisheries.noaa.gov/national/partners/council-coordination-committee and http://www.fisherycouncils.org/ccc-meetings.

FOR FURTHER INFORMATION CONTACT: Nicholas Pieper by email at Nicholas.Pieper@noaa.gov or at (301) 427-8500.

SUPPLEMENTARY INFORMATION: The Magnuson-Stevens Fishery Conservation and Management Reauthorization Act established the CCC. The CCC consists of the chairs, vice chairs, and executive directors of each of the eight Regional Fishery Management Councils or other Council members or staff. Updates to this meeting and additional information will be posted on https://www.fisheries.noaa.gov/national/partners/council-coordination-committee and http://www.fisherycouncils.org/ when available.

Proposed Agenda

Wednesday, September 23, 2020—1:30 p.m.-5:30 p.m. Eastern

1. Welcome/Introduction

a. NOAA Fisheries Update and FY20/21 Priorities

2. Recent Issues with Council Operations and Agency Operational, Science, and Regulatory Issues

3. Rule on Council Membership; Financial Disclosure and Recusal

4. CEQ Final NEPA Regulation

5. Legislative Outlook

6. Public Comment

Adjourn Day 1

Thursday, September 24, 2020—1:30 p.m.-5:30 p.m. Eastern

7. Aquaculture and the Executive Order on Promoting American Seafood Competitiveness and Economic Growth

8. CCC Committees

a. Electronic Monitoring

b. Communications

9. Public Comment

10. Wrap-up and Other Business

Adjourn Day 2

The order in which the agenda items are addressed may change. The CCC will meet as late as necessary to complete scheduled business.

Special Accommodations

If you have particular access needs please contact Nicholas Pieper at Nicholas.pieper@noaa.gov at least 7 business days prior to the meeting for accommodation.

Dated: August 31, 2020.
Kelly Denit,
Director, Office of Sustainable Fisheries, National Marine Fisheries Service.

[FR Doc. 2020-19574 Filed 9-3-20; 8:45 am]

BILLING CODE 3510-22-P